DEPARTMENT OF COMMERCE

International Trade Administration

[A-570-601]

Tapered Roller Bearings and Parts Thereof, Finished and Unfinished, From the People's Republic of China: Preliminary Results of 1999-2000 Administrative Review, Partial Rescission of Review, and Notice of Intent Not To Revoke Order in Part

AGENCY: Import Administration, International Trade Administration, Department of Commerce.

ACTION: Notice of preliminary results of 1999-2000 administrative review, partial rescission of the review, and notice of intent not to revoke order in part.

SUMMARY: We preliminarily determine that sales of tapered roller bearings and parts thereof, finished and unfinished, from the People's Republic of China, were made below normal value during the period June 1, 1999 through May 31, 2000. We are also rescinding the review, in part, in accordance with 19 CFR 351.213(d)(3).

Weihai Machinery Holding (Group) Co., China National Machinery Import & Export Corporation, Wanxiang Group Corporation, and Zhejiang Machinery Import & Export Corp. have requested revocation of the antidumping duty order in part. Based on record evidence, we preliminarily find that none of these companies qualifies for revocation. Accordingly, we preliminarily determine not to revoke the order with respect to the subject merchandise produced and exported by these four companies.

If these preliminary results are adopted in our final results of review, we will instruct the Customs Service to assess antidumping duties based on the differences between the export price or constructed export price and normal value on all appropriate entries. Interested parties are invited to comment on these preliminary results.

EFFECTIVE DATE: July 10, 2001.

FOR FURTHER INFORMATION CONTACT: Jarrod Goldfeder, Melani Miller, or Anthony Grasso, Import Administration, International Trade Administration, U.S. Department of Commerce, 14th Street and Constitution Avenue, NW., Washington, DC 20230; telephone: (202) 482-0189, (202) 482-0116, or (202) 482-3853, respectively.

SUPPLEMENTARY INFORMATION:

Applicable Statute

Unless otherwise indicated, all citations to the Tariff Act of 1930, as amended (“the Act”), are references to the provisions effective January 1, 1995, the effective date of the amendments made to the Act by the Uruguay Round Agreements Act (“URAA”). In addition, unless otherwise indicated, all references to the Department of Commerce's (“the Department”) regulations are to 19 CFR Part 351 (April 2000).

Background

On May 27, 1987, the Department published in the Federal Register (52 FR 19748) the antidumping duty order on tapered roller bearings and parts thereof, finished and unfinished (“TRBs”), from the People's Republic of China (“PRC”). The Department notified interested parties of the opportunity to request an administrative review of this order on June 20, 2000 (65 FR 38242). On June 26, 2000, Wanxiang Group Corporation (“Wanxiang”), China National Machinery Import & Export Corporation (“CMC”), Liaoning MEC Group Co. Ltd. (“Liaoning”), Premier Bearing & Equipment Ltd. (“Premier”), Tianshui Hailin Import and Export Corporation and Hailin Bearing Factory (“Hailin”), and Weihai Machinery Holding (Group) Co., Ltd. (“Weihai”) requested administrative reviews. On June 30, 2000, Wafangdian Bearing Group Corp. Import & Export Company (“Wafangdian”), Luoyang Bearing Corporation (Group) (“Luoyang”), Zhejiang Machinery Import & Export Corp. (“ZMC”), and Zhejiang Changshan Changhe Bearing Corp. (“ZCCBC”) also requested administrative reviews. Weihai, Wafangdian, ZMC, Wanxiang, and CMC also requested that the Department revoke the antidumping duty order as it pertains to them. On June 30, 2000, the petitioner, The Timken Company, requested that the Department conduct an administrative review of the antidumping duty order on hundreds of PRC TRB exporters. In accordance with 19 CFR 351.221(b)(1), we published a notice of initiation of this antidumping duty administrative review on July 31, 2000 (65 FR 46687). We published a revision to this initiation notice on August 10, 2000 (65 FR 48968).

On August 16, 2000, we sent a questionnaire to the Secretary General of the Basic Machinery Division of the Chamber of Commerce for Import & Export of Machinery and Electronics Products and requested that the questionnaire be forwarded to all PRC companies identified in our initiation notice and to any subsidiary companies of the named companies that produce and/or export the subject merchandise. In this letter, we also requested information relevant to the issue of whether the companies named in the initiation notice are independent from government control. See the Separate Rates Determination section, below. Courtesy copies of the questionnaire were also sent to companies with legal representation.

We received responses to the questionnaire in September and October 2000 from the following seven companies: CMC, ZMC, Wafangdian, Wanxiang, Hailin, Weihai, and Luoyang. We sent out supplemental questionnaires in January, February, and May 2001, and received responses to these supplemental questionnaires in February, March, and May 2001.

On September 22 and November 3, 2000, ZCCBC and Liaoning, respectively, requested that the Department rescind the review with respect to these companies. Pursuant to 19 CFR 351.213(d)(1), because ZCCBC and Liaoning withdrew their requests for reviews within 90 days of the date of publication of the notice of initiation of this review and no other party requested a review of these companies, we are rescinding the review with respect to ZCCBC and Liaoning.

In addition, on September 8 and 11, 2000, respectively, Premier and Chin Jun Industrial Ltd. (“Chin Jun”) reported that they had no shipments of subject merchandise to the United States during the period of review (“POR”), June 1, 1999 through May 31, 2000. With respect to Chin Jun, in accordance with 19 CFR 351.213(d)(3), we preliminarily conclude that there were no shipments from Chin Jun to the United States during the POR and are preliminarily rescinding the review with respect to this company. However, prior to issuing the final results, we will confirm with the Customs Service that Chin Jun had no shipments during the POR. With respect to Premier, on January 17, 2001, Premier reported to the Department that it did, in fact, have sales of the subject merchandise to the United States during the POR, and it submitted a questionnaire response. Because Premier's deadline for submitting a response was in October 2000, and no further extensions were requested or granted on behalf of Premier, we rejected Premier's submission. See the Facts Available section, below, for a further discussion of Premier.

Finally, because the order with respect to Wafangdian was revoked in Tapered Roller Bearings and Parts Thereof, Finished and Unfinished, From the People's Republic of China; Amended Final Results of 1998-1999 Administrative Review and Determination to Revoke Order in Part, 66 FR 11562 (February 26, 2001) (“TRBs XII Amended Final”), we are terminating this review with respect to Wafangdian.

Scope of the Order

Merchandise covered by this order includes TRBs and parts thereof, finished and unfinished, from the PRC; flange, take up cartridge, and hanger units incorporating tapered roller bearings; and tapered roller housings (except pillow blocks) incorporating tapered rollers, with or without spindles, whether or not for automotive use. This merchandise is currently classifiable under Harmonized Tariff Schedule of the United States (“HTSUS”) item numbers 8482.20.00, 8482.91.00.50, 8482.99.30, 8483.20.40, 8483.20.80, 8483.30.80, 8483.90.20, 8483.90.30, 8483.90.80, 8708.99.80.15, and 8708.99.80.80. Although the HTSUS item numbers are provided for convenience and customs purposes, the written description of the scope of the order is dispositive.

Separate Rates Determination

The Department has treated the PRC as a nonmarket economy (“NME”) country in all previous antidumping cases. In accordance with section 771(18)(C)(i) of the Act, any determination that a foreign country is an NME shall remain in effect until revoked by the Department. None of the parties to this proceeding has contested such treatment in this review. Moreover, parties to this proceeding have not argued that the PRC TRB industry is a market-oriented industry.

Therefore, we are treating the PRC as an NME country within the meaning of section 773(c) of the Act. We allow companies in NME countries to receive separate antidumping duty rates for purposes of assessment and cash deposits when those companies can demonstrate an absence of government control, both in law and in fact, with respect to export activities.

To establish whether a company operating in an NME country is sufficiently independent to be entitled to a separate rate, the Department analyzes each exporting entity under the test established in the Final Determination of Sales at Less Than Fair Value: Sparklers from the People's Republic of China, 56 FR 20588 (May 6, 1991) (“Sparklers”), as amplified by the Final Determination of Sales at Less Than Fair Value: Silicon Carbide from the People's Republic of China, 59 FR 22585 (May 2, 1994) (“Silicon Carbide”). Evidence supporting, though not requiring, a finding of de jure absence of government control over export activities includes: (1) An absence of restrictive stipulations associated with the individual exporter's business and export licenses; (2) any legislative enactments decentralizing control of companies; and (3) any other formal measures by the government decentralizing control of companies. De facto absence of government control over exports is based on four factors: (1) Whether each exporter sets its own export prices independently of the government and without the approval of a government authority; (2) whether each exporter retains the proceeds from its sales and makes independent decisions regarding the disposition of profits or financing of losses; (3) whether each exporter has the authority to negotiate and sign contracts and other agreements; and (4) whether each exporter has autonomy from the government regarding the selection of management (see Silicon Carbide, 59 FR at 22587, and Sparklers, 56 FR at 20589).

In previous administrative reviews of the antidumping duty order on TRBs from the PRC, we determined that CMC, Luoyang, Hailin, Wanxiang, Weihai, and ZMC, should receive separate rates (see, e.g., Tapered Roller Bearings and Parts Thereof, Finished and Unfinished, From the People's Republic of China; Final Results of 1998-1999 Administrative Review, Partial Rescission of Review, and Determination Not to Revoke Order in Part, 66 FR 1953 (January 10, 2001) and TRBs XII Amended Final (collectively, “TRBs XII”)). We preliminarily determine that the evidence on the record of this review also demonstrates an absence of government control, both in law and in fact, with respect to these companies' exports according to the criteria identified in Sparklers and Silicon Carbide. The evidence in question consisted of, among other things, the companies' business licenses and copies of relevant PRC laws on trade and incorporation. Therefore, we have continued to assign each of these companies a separate rate.

Additionally, we have preliminarily determined that companies which did not respond to the questionnaire should not receive separate rates. See the Use of Facts Otherwise Available section, below.

Use of Facts Otherwise Available

We preliminarily determine that companies which did not respond to our requests for information did not cooperate to the best of their abilities. Thus, in accordance with sections 776(a) and (b) of the Act, the use of adverse facts available is appropriate for such companies.

1. Companies that did not respond to the questionnaire: Where the Department must base its determination on facts available because a respondent failed to cooperate by not acting to the best of its ability to comply with a request for information, section 776(b) of the Act authorizes the Department to use an inference that is adverse to the interests of that respondent in choosing facts available. Section 776(b) of the Act also authorizes the Department to use as adverse facts available information derived from the petition, the final determination in the investigation, a previous administrative review, or any other information placed on the record. Information from prior segments of the proceeding constitutes secondary information and section 776(c) of the Act provides that the Department shall, to the extent practicable, corroborate that secondary information from independent sources reasonably at its disposal. The Statement of Administrative Action provides that “corroborate” means simply that the Department will satisfy itself that the secondary information to be used has probative value (see H.R. Doc. 316, Vol. 1, 103d Cong., 2d Sess. 870 (1994)).

To corroborate secondary information, the Department will, to the extent practicable, examine the reliability and relevance of the information to be used. However, unlike other types of information, such as input costs or selling expenses, there are no independent sources for calculated dumping margins. Thus, in an administrative review, if the Department chooses as total adverse facts available a calculated dumping margin from a prior segment of the proceeding, it is not necessary to question the reliability of the margin for that time period. With respect to the relevance aspect of corroboration, however, the Department will consider information reasonably at its disposal as to whether there are circumstances that would render a margin inappropriate. Where circumstances indicate that the selected margin is not appropriate as adverse facts available, the Department will disregard the margin and determine an appropriate margin (see, e.g., Fresh Cut Flowers from Mexico: Final Results of Antidumping Duty Administrative Review, 61 FR 6812, 6814 (February 22, 1996) (where the Department disregarded the highest margin as adverse facts available because the margin was based on another company's uncharacteristic business expenses resulting in an unusually high margin)).

We have preliminarily assigned a margin of 33.18 percent to those companies for which we initiated a review and which did not respond to the questionnaire. This margin, calculated for sales by Xiangfan Machinery Import & Export (Group) Corp. during the 1996-97 review (Tapered Roller Bearings and Parts Thereof, Finished and Unfinished, From the People's Republic of China; Final Results of 1996-1997 Antidumping Administrative Review and New Shipper Review and Determination Not to Revoke Order in Part, 63 FR 63842 (November 17, 1998)), represents the highest overall margin for any firm during any segment of this proceeding. As discussed above, it is not necessary to question the reliability of a calculated margin from a prior segment of the proceeding. Further, there are no circumstances or documentation indicating that this margin is inappropriate as adverse facts available. Therefore, we preliminarily find that the 33.18 percent rate is corroborated.

As noted in the Separate Rates Determination section above, we have also preliminarily determined that the non-responsive companies should not receive separate rates. Thus, they are viewed as part of the PRC-wide entity. Accordingly, the facts available for these companies form the basis for the PRC rate, which is 33.18 percent for this review.

2. Premier: As noted above, on August 16, 2000, the Department issued the antidumping duty questionnaire for this review to all PRC manufacturers of TRBs, including Premier. This questionnaire noted that responses to Section A of the questionnaire were due on September 25, 2000, and that all other sections were due on October 10, 2000. The due dates for several companies, including Premier, were extended by the Department to October 2, 2000, for the Section A response and to October 27, 2000, for the remaining sections. (See September 20, 2000 and October 23, 2000 memos to the file, both entitled “Request for Extension,” which are on file in the Department's Central Records Unit in Room B-099 (“CRU”).)

On September 8, 2000, Premier submitted a letter to the Department stating that it had made no shipments of the subject merchandise to the United States during the POR. Accordingly, Premier did not submit a questionnaire response by the deadlines noted above. However, on January 17, 2001, Premier submitted a letter stating that it did, in fact, make sales of TRBs to the United States during the POR. Enclosed with the letter was a questionnaire response for Premier.

Under 19 CFR 351.301(c)(2), the deadline for submitting information requested by the Department is the deadline specified by the Department. As noted above, Premier's extended deadline for submitting a Section A response was October 2, 2000; the extended deadline for submitting the remainder of Premier's response was October 27, 2000. No other extensions were requested or granted on behalf of Premier. Moreover, no further request for information was made to Premier by the Department. Finally, 19 CFR 351.301(b)(2) states that the deadline for submission of factual information in a review is 140 days after the last day of the anniversary month. In this case, that date was November 17, 2000, two months prior to the January 17, 2001 submission made by Premier. Based on these facts, pursuant to 19 CFR 351.302(d)(2), on January 19, 2001, the Department returned to Premier its January 17, 2001 submission.

Pursuant to section 776(a)(2) of the Act, we have determined that the use of facts available is warranted with respect to Premier. As noted above, and discussed in section 776(a)(2)(B) of the Act, Premier failed to provide information requested by the Department by the deadlines for submission of this information. Moreover, as Premier did not provide a response to the Department's questionnaire by the deadlines for submission of this information, we have determined that Premier failed to cooperate by not acting to the best of its ability to comply with a request for information. Thus, pursuant to section 776(b) of the Act, we have determined that the use of an adverse inference is appropriate in choosing from among the facts available for Premier. Additionally, as noted above, we have preliminarily determined that companies which did not respond to the questionnaire should not receive separate rates. Thus, consistent with our methodology noted in the Use of Facts Otherwise Available section above, we have preliminarily assigned a margin of 33.18 percent to Premier.

Export Price and Constructed Export Price

For certain sales made by CMC to the United States, we used constructed export price (“CEP”) in accordance with section 772(b) of the Act because the first sale to an unaffiliated purchaser occurred after importation of the merchandise into the United States. For sales made by other respondents, as well as the remaining sales made by CMC, we used export price (“EP”), in accordance with section 772(a) of the Act, because the subject merchandise was sold to unaffiliated purchasers in the United States prior to importation into the United States and because the CEP methodology was not indicated by other circumstances.

We calculated EP based on the FOB or CIF prices to unaffiliated purchasers, as appropriate. From these prices we deducted amounts, where appropriate, for foreign inland freight, foreign brokerage and handling, international freight, and marine insurance. We valued the deductions for foreign inland freight and brokerage and handling using surrogate data (Indian freight costs). (We selected India as the surrogate country for the reasons explained in the Normal Value section of this notice, below.) When marine insurance and ocean freight were provided by PRC-owned companies, we valued the deductions using surrogate data (amounts charged by market-economy providers). However, when some or all of a specific company's ocean freight was provided directly by market economy companies and paid for in a market economy currency, we used the reported market economy ocean freight values for all U.S. sales made by that company.

We calculated CEP based on the packed, ex-warehouse prices from CMC's U.S. subsidiary to unaffiliated customers. We made deductions, where appropriate, from the starting price for CEP for foreign inland freight, foreign brokerage and handling, international freight, marine insurance, and customs duties. In accordance with section 772(d)(1) of the Act, we made further deductions for the following selling expenses that related to economic activity in the United States: credit expenses and indirect selling expenses (including inventory carrying costs). In accordance with section 772(d)(3) of the Act, we have deducted from the starting price an amount for profit.

Normal Value

Section 773(c)(1) of the Act provides that the Department shall determine normal value (“NV”) using a factors-of-production methodology if: (1) the subject merchandise is exported from an NME country, and (2) the Department finds that the available information does not permit the calculation of NV under section 773(a) of the Act. We have no basis to determine that the available information would permit the calculation of NV using PRC prices or costs. Therefore, we calculated NV based on factors data in accordance with sections 773(c)(3) and (4) of the Act and 19 CFR 351.408(c).

Under the factors-of-production methodology, we are required to value, to the extent possible, the NME producer's inputs in a market economy country that is at a comparable level of economic development and that is a significant producer of comparable merchandise. We chose India as the surrogate on the basis of the criteria set out in 19 CFR 351.408(b). See the November 14, 2000, Memorandum to John Brinkmann from Jeff May “Tapered Roller Bearings from the People's Republic of China: Nonmarket Economy Status and Surrogate Country Selection,” and the June 29, 2001, Memorandum to Susan Kuhbach “Selection of a Surrogate Country and Steel Value Sources” (“Steel Values Memorandum”) for a further discussion of our surrogate selection. (Both memoranda are on file in the Department's CRU.)

We used publicly available information from India to value the various factors. Because some of the Indian import data was not contemporaneous with the POR, unless otherwise noted, we inflated the data to the POR using the Indian wholesale price index (“WPI”) published by the International Monetary Fund.

Pursuant to the Department's factors-of-production methodology, we valued the respondent's reported factors of production by multiplying them by the following values (for a complete description of the factor values used, see the Memorandum to Susan Kuhbach: “Factors of Production Values Used for the Preliminary Results,” dated June 29, 2001, which is on file in the Department's CRU):

1. Steel Inputs. For hot-rolled alloy steel bars used in the production of cups and cones, consistent with TRBs XII, we used an adjusted weighted-average of Japanese export values to India from the Japanese Harmonized Schedule (“HS”) category 7228.30.900 obtained from Official Japan Ministry of Finance statistics. For cold-rolled steel rods used in the production of rollers and for cold-rolled steel sheet used in the production of cages, we utilized Indian import data under Indian tariff subheadings 7228.5009 and 7209.1600, respectively, obtained from the Monthly Statistics of the Foreign Trade of India, Vol. II—Imports. (For further discussion of selection of steel value sources, see the Steel Values Memorandum.)As in previous administrative reviews, we eliminated from our calculation steel imports from NME countries and imports from market economy countries that were made in small quantities. For steel used in the production of rollers, we also excluded imports from countries that do not produce bearing-quality steel (see, e.g., TRBs XII). We made adjustments to include freight costs incurred using the shorter of the reported distances from either the closest PRC port to the TRBs factory or the domestic supplier to the TRBs factory (see Notice of Final Determination of Sales at Less Than Fair Value: Collated Roofing Nails From the People's Republic of China, 62 FR 51410 (October 1, 1997), and Sigma Corporation v. United States, 117 F. 3d 1401 (Fed. Cir. 1997)).

Certain producers in this review purchased steel used to make TRBs or TRB parts from market economy suppliers and paid for the steel with market economy currency. In accordance with 19 CFR 351.408(c)(1), we generally valued these steel inputs using the actual price reported for directly imported inputs from a market economy. However, in TRBs XII, we found a reasonable basis to believe or suspect that certain market economy steel inputs purchased by PRC TRB manufacturers and used to manufacture TRBs were subsidized. Consistent with our treatment of subsidized inputs in TRBs XII, we have not used the actual prices paid by PRC producers of TRBs for steel which we have continuing reason to believe or suspect is subsidized. Instead, we relied on surrogate values. (See individual company calculation memoranda for a more detailed company-specific discussion of this issue.)

We valued scrap recovered from the production of cups, cones, and rollers using Indian import statistics from Indian HS category 7204.2909. Scrap recovered from the production of cages was valued using import data from Indian HS category 7204.4100.

2. Labor. 19 CFR 351.408(c)(3) requires the use of a regression-based wage rate. We have used the regression-based wage rate available on Import Administration's internet website at www.ia.ita.doc.gov/wages.

3. Overhead, SG&A Expenses, and Profit. For factory overhead, we used information obtained from the fiscal year 1999-2000 annual reports of five Indian bearing producers. We calculated factory overhead and selling, general and administrative (“SG&A”) expenses (exclusive of labor—but, including employer provident funds and welfare expenses not reflected in the Department's regressed wage-rate—and electricity) as percentages of direct inputs (also exclusive of labor) and applied these ratios to each producer's direct input costs. This is consistent with the methodology we utilized in TRBs XII. For profit, we totaled the reported profit before taxes for the five Indian bearing producers and divided it by the total calculated cost of production (“COP”) of goods sold. This percentage was applied to each respondent's total COP to derive a company-specific profit value.

4. Packing. Consistent with our methodology in prior reviews (see, e.g., TRBs XII), we calculated packing costs as a percentage of COP for each respondent based on company-specific information submitted in previous reviews. This ratio was applied to the respondents' COPs for the current review.

5. Electricity. Consistent with Manganese Metal from the People's Republic of China; Final Results of Antidumping Duty Administrative Review, 66 FR 15076 (March 15, 2001), we calculated our surrogate value for electricity based on a simple average of the 1998/1999 rates for the “industrial” category listed for 19 Indian states or electricity boards. The source of this data was the Energy Data Directory and Yearbook published by Tata Energy Research Institute.

6. Inland Freight. We valued truck freight using an average of November 1999 truck freight rate quotes collected from Indian trucking companies by the Department and used in the Notice of Preliminary Determination of Sales at Less than Fair Value: Bulk Aspirin from the People's Republic of China, 65 FR 116 (January 3, 2000) (“Bulk Aspirin from the PRC”). We valued rail freight using two November 1999 rate quotes for domestic bearing quality steel shipments within India that were also used in Bulk Aspirin from the PRC. Because this information is contemporaneous with the current POR, no further calculations were necessary. For inland freight expenses incurred by boat, we used August 1993 shipping freight data used in Certain Helical Spring Lock Washers From the People's Republic of China; Final Results of Antidumping Duty Administrative Review, 65 FR 31143 (May 16, 2000). We inflated this inland shipping rate to the POR using the Indian WPI.

7. Ocean Freight. We calculated a value for ocean freight based on May 2000 rate quotes from Maersk Inc. Because this information is contemporaneous with the current POR, no further calculations were necessary.

8. Marine Insurance. We calculated a value for marine insurance based on the CIF value of shipped TRBs. This rate was obtained for TRBs XII through queries made directly to an international marine insurance provider. We adjusted the marine insurance rate to the POR using the U.S. purchase price index.

9. Brokerage and Handling. We used the public version of a U.S. sales listing reported in the questionnaire response submitted by Meltroll Engineering for Stainless Steel Bar from India; Final Results of Antidumping Duty Administrative Review and New Shipper Review and Partial Rescission of Administrative Review, 65 FR 48965 (August 10, 2000). Because this information is contemporaneous with the current POR, no adjustments were necessary.

Revocation

Pursuant to 19 CFR 351.222(e)(1), Weihai, CMC, Wanxiang, and ZMC requested revocation of the antidumping duty order, in part, based on an absence of dumping for each company for at least three consecutive years. Wafangdian also requested revocation of the antidumping duty order with respect to its sales. However, because the order with respect to Wafangdian was revoked in TRBs XII, we do not need to address Wafangdian's request for revocation in this review.

In accordance with 19 CFR 351.222(e), Weihai, CMC, Wanxiang, and ZMC's requests were accompanied by certifications that they had sold the subject merchandise at not less than normal value during the current period of review and would not sell the subject merchandise at less than normal value in the future. They further certified that they sold the subject merchandise to the United States in commercial quantities for a period of at least three consecutive years. The companies also agreed to the immediate reinstatement of the antidumping duty order if the Department concludes that, subsequent to the revocation, the companies sold the subject merchandise at less than normal value.

In TRBs XII, CMC and ZMC were found to have made sales below normal value. Because CMC and ZMC do not have three consecutive years of sales at not less than normal value, we preliminarily find that these two companies do not qualify for revocation of the order on TRBs pursuant to 19 CFR 351.222(b). Therefore, we intend not to revoke the order in part with respect to these companies in our final results.

Weihai first participated in this proceeding as a new shipper. See Tapered Roller Bearings and Parts Thereof, Finished and Unfinished, From the People's Republic of China; Preliminary Results of New Shipper Review, 64 FR 45511 (August 20, 1999); Tapered Roller Bearings and Parts Thereof, Finished and Unfinished, From the People's Republic of China; Final Results of 1997-1998 Antidumping Duty Administrative Review and Final Results of New Shipper Review, 64 FR 61837 (November 15, 1999) (“TRBs NSR”). TRBs NSR covered the period June 1, 1998 through November 30, 1998. Subsequently, Weihai participated in TRBs XII, which covered the period June 1, 1998 through May 31, 1999. See TRBs XII. Finally, Weihai is participating in the instant review, which covers the period June 1, 1999 through May 31, 2000. Since the time period covered by TRBs NSR is included in the time period covered by TRBs XII, the Department has reviewed only two years of Weihai's shipments. Thus, we preliminarily find that Weihai has not sold the subject merchandise at not less than normal value for a period of at least three consecutive years and, accordingly, does not qualify for revocation in this review.

Finally, with respect to Wanxiang, in TRBs XII we determined that Wanxiang did not qualify for revocation because it did not sell the subject merchandise in the United States in commercial quantities in each of the three years underlying its request for revocation. Based on our determination that Wanxiang did not make sales in commercial quantities during the PORs of TRBs XII and Tapered Roller Bearings and Parts Thereof, Finished and Unfinished, From the People's Republic of China: Final Results of 1997-1998 Antidumping Duty Administrative Review and Final Results of New Shipper Review, 64 FR 61837 (November 15, 1999), we do not need to examine whether Wanxiang made sales in commercial quantities during the instant review. Because Wanxiang did not make sales in commercial quantities in each of the three years cited by the company to support its revocation request, we preliminarily find that Wanxiang does not qualify for revocation of the order on TRBs (see 19 CFR 351.222(b)).

Preliminary Results of the Review

We preliminarily determine that the following dumping margins exist for the period June 1, 1999, through May 31, 2000:

Exporter/manufacturer | Weighted-average margin percentage
Weihai Machinery Holding (Group) Co | 0.00
China National Machinery Import & Export Corporation | 4.79
Wanxiang Group Corporation | 0.00
Tianshui Hailin Import and Export Corporation and Hailin Bearing Factory | 0.00
Luoyang Bearing Corporation (Group) | 0.12
Zhejiang Machinery Import & Export Corp | 0.00
PRC-wide rate (including Premier Bearing & Equipment Ltd.) | 33.18

Any interested party may request a hearing within 30 days of the date of publication of this notice. Any hearing, if requested, will be held approximately 42 days after the publication of this notice, or the first workday thereafter. Issues raised in hearings will be limited to those raised in the case and rebuttal briefs. Interested parties may submit case briefs within 30 days of the date of publication of this notice. Rebuttal briefs, which must be limited to issues raised in the case briefs, may be filed not later than 35 days after the date of publication of this notice. Parties who submit case briefs or rebuttal briefs in this review are requested to submit with each argument (1) a statement of the issue and (2) a brief summary of the argument with an electronic version included.

The Department will publish the final results of this administrative review, including the results of its analysis of issues raised in any such written briefs or hearing, within 120 days of publication of these preliminary results.

The Department shall determine, and the Customs Service shall assess, antidumping duties on all appropriate entries. To calculate the amount of duties to be assessed with respect to EP sales, we divided the total dumping margins (calculated as the difference between NV and EP) for each importer/customer by the total number of units sold to that importer/customer. If these preliminary results are adopted in our final results of administrative review, we will direct the Customs Service to assess the resulting per-unit dollar amount against each unit of merchandise in each of that importer's/customer's entries under the order during the review period.

For CEP sales, we divided the total dumping margins for the reviewed sales by the total entered value of those reviewed sales for each importer/customer. If these preliminary results are adopted in our final results of administrative review, we will direct the Customs Service to assess the resulting percentage margin against the entered customs values for the subject merchandise on each of that importer's/customer's entries during the review period.

The following cash deposit requirements will be effective upon publication of the final results of this administrative review for all shipments of the subject merchandise entered, or withdrawn from warehouse, for consumption on or after the publication date, as provided for by section 751(a)(1) of the Act: (1) For the PRC companies named above, the cash deposit rates will be the rates for these firms established in the final results of this review, except that, for exporters with de minimis rates, i.e., less than 0.50 percent, no deposit will be required; (2) for previously-reviewed PRC and non-PRC exporters with separate rates, the cash deposit rate will be the company-specific rate established for the most recent period during which they were reviewed; (3) for all other PRC exporters, the rate will be the PRC country-wide rate, which is 33.18 percent; and (4) for all other non-PRC exporters of subject merchandise from the PRC, the cash deposit rate will be the rate applicable to the PRC supplier of that exporter. These deposit requirements, when imposed, shall remain in effect until publication of the final results of the next administrative review.

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

We are issuing and publishing these results in accordance with sections 751(a)(1) and 777(i)(1) of the Act.

Dated: July 2, 2001.
Faryar Shirzad,
Assistant Secretary for Import Administration.

[FR Doc. 01-17230 Filed 7-9-01; 8:45 am]

BILLING CODE 3510-DS-P